DEPARTMENT OF ENERGY

Federal Energy Regulatory Commission

Combined Notice of Filings

Take notice that the Commission has received the following Natural Gas Pipeline Rate and Refund Report filings:

Docket Numbers: RP21-92-000.

Applicants: Portland Natural Gas Transmission System.

Description: § 4(d) Rate Filing: PXP Phase III Amendments Filing to be effective 12/1/2020.

Filed Date: 10/27/20.

Accession Number: 20201027-5024.

Comments Due: 5 p.m. ET 11/9/20.

Docket Numbers: RP21-93-000.

Applicants: Guardian Pipeline, L.L.C.

Description: Compliance filing 2019-2020 Gas Sales and Purchases Report.

Filed Date: 10/27/20.

Accession Number: 20201027-5032.

Comments Due: 5 p.m. ET 11/9/20.

Docket Numbers: RP21-94-000.

Applicants: Midwestern Gas Transmission Company.

Description: Compliance filing 2019-2020 Gas Sales and Purchases Report.

Filed Date: 10/27/20.

Accession Number: 20201027-5044.

Comments Due: 5 p.m. ET 11/9/20.

Docket Numbers: RP21-95-000.

Applicants: OkTex Pipeline Company, L.L.C.

Description: Compliance filing 2019-2020 Gas Sales and Purchases Report.

Filed Date: 10/27/20.

Accession Number: 20201027-5051.

Comments Due: 5 p.m. ET 11/9/20.

Docket Numbers: RP21-96-000.

Applicants: Viking Gas Transmission Company.

Description: Compliance filing 2019-2020 Gas Sales and Purchases Report.

Filed Date: 10/27/20.

Accession Number: 20201027-5054.

Comments Due: 5 p.m. ET 11/9/20.

Docket Numbers: RP21-97-000.

Applicants: Midwestern Gas Transmission Company.

Description: Compliance filing 2019-2020 Cashout Report.

Filed Date: 10/27/20.

Accession Number: 20201027-5058.

Comments Due: 5 p.m. ET 11/9/20.

Docket Numbers: RP21-98-000.

Applicants: Alliance Pipeline L.P.

Description: § 4(d) Rate Filing: APL Jackson Generation Delivery Point Filing to be effective 12/1/2020.

Filed Date: 10/27/20.

Accession Number: 20201027-5082.

Comments Due: 5 p.m. ET 11/9/20.

Docket Numbers: RP21-99-000.

Applicants: Rockies Express Pipeline LLC.

Description: § 4(d) Rate Filing: REX 2020-10-27 Non-Conforming Negotiated Rate Amendment to be effective 10/27/2020.

Filed Date: 10/27/20.

Accession Number: 20201027-5172.

Comments Due: 5 p.m. ET 11/9/20.

Docket Numbers: RP21-100-000.

Applicants: National Grid LNG, LLC.

Description: § 4(d) Rate Filing: 2020-10-27 National Grid LNG Rate Filing to be effective 12/1/2020.

Filed Date: 10/27/20.

Accession Number: 20201027-5176.

Comments Due: 5 p.m. ET 11/9/20

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2020.
Nathaniel J. Davis, Sr.,
Deputy Secretary.

[FR Doc. 2020-24310 Filed 11-2-20; 8:45 am]

BILLING CODE 6717-01-P